DEPARTMENT OF THE INTERIOR

National Park Service

Notice of Scoping for Fire Management Plan, Point Reyes National Seashore, Marin County, CA

SUMMARY: Notice is hereby given, in accordance with the provisions of the National Environmental Policy Act (42 U.S.C. 4321 et. seq.) that public scoping has been initiated for a conservation planning and impact analysis process for updating the fire management plan for Point Reyes National Seashore, including Golden Gate National Recreation Area lands administered by Point Reyes National Seashore. The purpose of the scoping process is to elicit early public comment regarding issues and concerns, a suitable range of alternatives and appropriate mitigating measures, and the nature and extent of potential environmental impacts which should be addressed.

Background

Point Reyes National Seashore is a unit of the National Park System. Research has shown that fire is a significant natural process across a large portion of the 85,000 acres administered by the park. A fire management program was begun in 1976 and has continued to the present time. Three forms of wildland fire management—aggressive suppression of unwanted wildfires, prescribed burning, and mechanical fuel reduction—have been used to achieve natural and cultural resource management, hazard fuel reduction, and fire prevention goals.

The last revision of the fire management plan culminated in a Finding Of No Significant Impact, dated August 2, 1993. Since that time, a range of new issues, improved information, and unforeseeable constraints have emerged which have the potential to affect the future direction of the fire management program within the parks. Some of these issues include but are not limited to: A continued decline in ecosystem health due to fire suppression, increased hazards and costs associated with fire suppression, and more stringent air quality regulations.

Comments

As noted, the National Park Service will undertake an environmental analysis effort to address issues and alternatives for fire management on lands administered by Point Reyes National Seashore. At this time, it has not been determined whether an Environmental Assessment or Environmental Impact Statement will be prepared, however, this scoping process will aid in the preparation of either document. As the first step in this undertaking, a variety of public scoping and information activities will be conducted. An initial public meeting will be held under the auspices of the Point Reyes Citizen Advisory Commission, January 29, 2000, 10 a.m., at the Dance Palace in Point Reyes Station. A second public meeting will be held at park headquarters on March 9, 2000, 7 p.m.

For those unable to attend meetings, a scoping document will be available through the park. Main topics addressed in the scoping document and meetings are: Background information on the fire management program; review of relevant policy and law affecting fire management programs; assessment of current fire management needs; and identification of issues and options for fire management in the parks.

Interested individuals, organizations, and agencies are encouraged to provide comments or suggestions. Written comments regarding the fire management program must be postmarked (or transmitted) no later than March 28, 2000. For the most up-to-date information on the scoping meetings, or to request a copy of the scoping background material and provide comments, please contact: Superintendent, Point Reyes National Seashore; Attn: Fire Management Plan; Point Reyes Station, California 94965; telephone (415) 663-8522 ext. 265 (or email ann_nelson@nps.gov.).

If individuals submitting comments request that their name or/and address be withheld from public disclosure, it will be honored to the extent allowable by law. Such requests must be stated prominently in the beginning of the comments. There also may be circumstances wherein the NPS will withhold a respondents identity as allowable by law. As always: NPS will make available to public inspection all submissions from organizations or businesses and from persons identifying themselves as representatives or officials of organizations and businesses; and, anonymous comments may not be considered.

Decision

The official responsible for approval is the Regional Director, Pacific West Region, National Park Service; the official responsible for implementation will be the Superintendent, Point Reyes National Seashore. The draft fire management plan and environmental document are expected to be available for public review in the summer of 2000. At this time it is anticipated that the final plan and environmental document are to be completed in Fall/Winter 2000/2001.

Dated: January 21, 2000.
John J. Reynolds,
Regional Director, Pacific West Region.

[FR Doc. 00-2300 Filed 2-2-00; 8:45 am]

BILLING CODE 4310-70-P